DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: November 17, 2004, 9 a.m. to 5 p.m.; November 18, 2004, 9 a.m. to 5 p.m.

Place: Adam's Mark Denver, 1550 Court Place, Denver, Colorado 80202, Phone: (800) 444-2326; Fax: (303) 626-2544.

Status: The meeting will be open to the public.

Agenda: The agenda includes an overview of the Council's general business activities. In addition, the Council will hear presentations from experts on farmworker issues, including the status of farmworker health at the local and national level.

The Council meeting is being held in conjunction with the 14th Annual Midwest Farmworker Stream Forum sponsored by the National Center for Farmworker Health, Inc., which is being held in Denver, Colorado, during the same period of time.

Agenda items are subject to change as priorities indicate.

For Further Information Contact: Anyone requiring information regarding the Council should contact Gladys Cate, Office of Minority and Special Populations, staff support to the National Advisory Council on Migrant Health, Bureau of Primary Health Care, Health Resources and Services Administration, 4350 East-West Highway, Bethesda, Maryland 20814, Telephone (301) 594-0367.

Dated: October 20, 2004.
Steven A. Pelovitz,
Associate Administrator, Office of Administration and Financial Management.

[FR Doc. 04-24069 Filed 10-27-04; 8:45 am]

BILLING CODE 4165-15-P